INTERNATIONAL TRADE COMMISSION

[Investigation No. 337-TA-1114]

Certain Modular LED Display Panels and Components Thereof; Notice of Commission Determination Not To Review an Initial Determination Terminating the Investigation in Its Entirety; Termination of Investigation

AGENCY: U.S. International Trade Commission.

ACTION: Notice.

SUMMARY: Notice is hereby given that the U.S. International Trade Commission (“Commission”) has determined not to review an initial determination (“ID”) (Order No. 29) terminating the investigation in its entirety based on withdrawal of the operative complaint by Complainant Ultravision Technologies, LLC of Dallas, Texas (“Ultravision”).

FOR FURTHER INFORMATION CONTACT: Carl P. Bretscher, Office of the General Counsel, U.S. International Trade Commission, 500 E Street SW, Washington, DC 20436, telephone 202-205-2382. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's Electronic Docket Information System (“EDIS”) (https://edis.usitc.gov). Hearing-impaired persons are advised that information on this matter can be obtained by contacting the Commission's TDD terminal, telephone 202-205-1810.

SUPPLEMENTARY INFORMATION: On May 31, 2018, the Commission instituted this investigation based on a complaint (and amendment and supplement thereto) filed by Ultravision. 83 FR 25044 (May 31, 2018). The amended and supplemented complaint alleged a violation of 19 U.S.C. 1337, as amended (“Section 337”), in the importation into the United States, sale for importation, or sale within the United States after importation of certain modular LED display panels and components thereof that infringe the asserted claims of U.S. Patent Nos. 9,349,306 (“the ’306 patent”) and 9,916,782 (“the ’782 patent”). The Commission's notice of investigation named forty (40) parties as respondents, including but not limited to Shanghai Sansi Electronic Engineering Co., Ltd. and Sansi North America, LLC (collectively “Sansi”), the subjects of the present ID. Id.; Order No. 29 at 2. The Office of Unfair Import Investigations (“OUII”) was also named as a party to the investigation.

The Commission determined not to review previous IDs that partially terminated the investigation with respect to certain patent claims or certain parties. See, e.g., Comm'n Notice (Nov. 19, 2018); Comm'n Notice (Oct. 2, 2018); Comm'n Notice (Sept. 28, 2018); Comm'n Notice (July 24, 2018). The Commission also determined not to review previous IDs that found certain respondents in default. See, e.g., Comm'n Notice (Sept. 26, 2018); Comm'n Notice (Sept. 18, 2018); Comm'n Notice (Sept. 17, 2018).

On November 27, 2018, Ultravision moved to terminate the investigation in its entirety based on its withdrawal of the amended complaint, the operative complaint in this investigation. Order No. 29 at 1. Consistent with Commission Rule 210.21(a)(1), Ultravision stated in its motion that it had entered into a confidential term sheet agreement with Sansi. Id. at 2.

On November 30, 2018, OUII filed a response supporting the motion. See id. at 1. No other party filed a response to the motion.

On January 31, 2019, the ALJ issued the subject ID granting the motion and finding no “extraordinary circumstances that warrant denying the motion” under Commission Rule 210.21(a)(1), 19 CFR 210.21(a).

No party filed a petition seeking review of the subject ID.

Upon review of the entire record, including the ALJ's ID, the Commission has determined not to review the subject ID. The investigation is hereby terminated in its entirety.

The authority for the Commission's determination is contained in Section 337 of the Tariff Act of 1930, as amended (19 U.S.C. 1337), and in part 210 of the Commission's Rules of Practice and Procedure (19 CFR part 210).

By order of the Commission.
Issued: February 21, 2019.
Lisa Barton,
Secretary to the Commission.

[FR Doc. 2019-03340 Filed 2-26-19; 8:45 am]

BILLING CODE 7020-02-P